DEPARTMENT OF TRANSPORTATION

Federal Motor Carrier Safety Administration

[Docket No. FMCSA-2024-0317]

Hours of Service of Drivers: Colorado Huntsman Transport, Inc; Application for Exemption

AGENCY: Federal Motor Carrier Safety Administration (FMCSA), Department of Transportation (DOT).

ACTION: Notice of final disposition; denial of application for exemption.

SUMMARY: FMCSA announces its decision to deny a request from Colorado Huntsman Transport, Inc. d.b.a. Huntsman Transport, USDOT 4050798 (“Huntsman Transport”), for an exemption from the commercial motor vehicle (CMV) marking requirements and provisions of the hours-of-service (HOS) regulations. FMCSA analyzed the exemption application and public comment and has determined that the exemption would not likely achieve a level of safety that is equivalent to, or greater than, the level that would be achieved absent such exemption.

FOR FURTHER INFORMATION CONTACT: Ms. Bernadette Walker, FMCSA Driver and Carrier Operations Division; Office of Carrier, Driver and Vehicle Safety Standards; 202-366-2551 or Bernadette.walker@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2024-0317/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations. FMCSA must publish a notice of each exemption request in the Federal Register (49 CFR 381.315(a)). The Agency must provide the public an opportunity to inspect the information relevant to the application, including the applicant's safety analysis. The Agency must provide an opportunity for public comment on the request.

The Agency reviews applications, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provisions from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 390.21, CMVs must be marked with the legal name or single trade name and USDOT number of the motor carrier. Under 49 CFR 395.5(b), drivers of passenger-carrying CMVs may not drive after having been on duty 60 hours in any 7 consecutive days if the motor carrier does not operate CMVs every day of the week or after having been on duty 70 hours in any period of 8 consecutive days if the employing motor carrier operates CMVs every day of the week.

Applicant's Request

Colorado Huntsman Transport's application for exemption was described in detail in a Federal Register notice on March 28, 2025, (90 FR 14179) and will not be repeated as the facts have not changed.

IV. Public Comments

AWM Associates, LLC. (AWM) filed the only comment on this exemption request. AWM opposed granting the exemption and stated, “The FMCSA should deny the carrier's application; whereas the carrier's competition has a similar service and has not asked for an exception. Allowing the carrier an exception opens a flood gate for other similar operations to apply for exemptions.”

V. FMCSA Decision

FMCSA evaluated Huntsman Transport's application and the public comment and denies the exemption request. Huntsman Transport failed to establish that it would likely achieve a level of safety equivalent to, or greater than, the level achieved without the exemption.

The CMV marking requirements exist to ensure that State officials who conduct roadside vehicle inspections and crash investigations attribute safety data to the correct motor carrier. They also provide the public with a means to identify motor carriers operating in an unsafe manner. Huntsman Transport did not explain how operating unmarked CMVs would reduce the alleged security threat posed by encounters between transported prisoners and individuals they may know during stops at other correctional facilities and did not explain how it would achieve an equivalent level of safety. As noted by the commenter, other prisoner transport contractors comply with the CMV marking requirements, and Huntsman Transport could use a smaller van if it wanted to complete a trip in an unmarked vehicle.

Huntsman Transport requested that it be permitted to extend the 60-hour/7-day on-duty period to an 80-hour/7-day on-duty period (from Sunday to Saturday), resetting every Sunday at 0000 hours. To ensure an equivalent level of safety, the applicant proposes a team driver operation for trips that last longer than two days. The team driver operation consists of the Huntsman agents alternating every three to five hours between driving and resting in the passenger seat, as the CMV will not be equipped with a sleeper berth. FMCSA does not believe a driver resting in the passenger seat of a CMV for more than three hours allows for adequate rest for operating a CMV.

The HOS regulations exclude from the definition of “on-duty time” all time spent resting in a parked CMV, time spent resting in a sleeper berth, and up to three hours in the passenger seat of a moving CMV immediately before or after at least seven consecutive hours in the sleeper berth. FMCSA has determined that resting in a parked CMV and resting in a sleeper berth provide adequate alternatives to lodging. In contrast, Huntsman's request would allow team drivers to alternate every three to five hours between driving and resting in the passenger seat of a moving CMV rather than resting in a parked CMV. In its 2020 Hours-of-Service final rule FMCSA noted that drivers get a lower quality of sleep in a moving vehicle (85 FR 33396, 33424). FMCSA determined that based on studies and sleep science, drivers need at least one primary sleep period of 7 consecutive hours when using the sleeper berth provision to rest in a moving CMV.

The applicant proposes working a maximum of 80 hours within a 7-day period from Sunday to Saturday with an allowance to reset on Sunday at 0000 hours and driving limited to 8 hours per day. The proposed 80-hour-per-week alternative does not offer a level of safety equivalent to FMCSA's HOS regulations which permits 60 hours in any 7-day period and 70 hours in any 8-day period. It permits dangerously long work hours without proper rest or oversight, increases risk of fatigue-related crashes, and conflicts with science-based safety standards.

The applicant also proposes a policy that restricts its agents' driving responsibilities to no more than three weeks in any four-week month or four weeks in any five-week month to guarantee that both drivers have enough time to rest. FMCSA believes the applicant's proposed policy is insufficient because the extended time off does not mitigate daily or weekly fatigue.

For the above reasons, Huntman Transport's exemption application is denied.

Derek D. Barrs,
Administrator.

[FR Doc. 2026-02367 Filed 2-5-26; 8:45 am]

BILLING CODE 4910-EX-P